DEPARTMENT OF THE INTERIOR

Bureau of Reclamation

[RR83570000, 189R5065C6, RX.59389832.1009676; OMB Control Number 1006-0003]

Agency Information Collection Activities; Bureau of Reclamation Use Authorization Application

AGENCY: Bureau of Reclamation, Interior.

ACTION: Notice of information collection; request for comment.

SUMMARY: In accordance with the Paperwork Reduction Act of 1995, we, the Bureau of Reclamation (Reclamation), are proposing to renew an information collection with revisions.

DATES: Interested persons are invited to submit comments on or before October 15, 2018.

ADDRESSES: Send your comments on this information collection request (ICR) by mail to Jason Kirby, Bureau of Reclamation, Office of Policy and Administration, 84-57000, P.O. Box 25007, Denver, CO 80225-0007; or by email to jkirby@usbr.gov. Please reference OMB Control Number 1006-0003 in the subject line of your comments.

FOR FURTHER INFORMATION CONTACT: To request additional information about this ICR, contact Jason Kirby by email at jkirby@usbr.gov, or by telephone at (303) 445-2895.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of Reclamation; (2) will this information be processed and used in a timely manner; (3) is the estimate of burden accurate; (4) how might Reclamation enhance the quality, utility, and clarity of the information to be collected; and (5) how might Reclamation minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Reclamation is responsible for approximately 6.5 million acres of land which directly support Reclamation's Federal water projects in the 17 western states. Individuals or entities wanting to use Reclamation's lands, facilities, or waterbodies must submit an application to gain permission for such uses. Examples of such uses are:

—Other commercial activities such as “guiding and outfitting” and “filming and photography;”

—commercial or organized recreation activities, public gatherings, and other special events; and sporting activities;

—agricultural uses such as grazing and farming;

—resource exploration and extraction, including sand and gravel removal, timber harvesting; and

—any other uses deemed appropriate by Reclamation.

Reclamation reviews applications to determine whether granting individual use authorizations is compatible with Reclamation's present or future uses of the lands, facilities, or waterbodies. When we find a proposed use compatible, we advise the applicant of the estimated administrative costs and estimated application processing time. In addition to the administrative costs, we require the applicant to pay a use fee based on a valuation or by competitive bidding. If the application is for construction of a bridge, building, or other significant construction project, Reclamation may require that all plans and specifications be signed and sealed by a licensed professional engineer.

Title of Collection: Bureau of Reclamation Use Authorization Application.

OMB Control Number: 1006-0003.

Form Number: Form 7-2540.

Type of Review: Revision of a currently approved collection.

Respondents/Affected Public: Individuals, corporations, companies, and State and local entities who want to use Reclamation lands, facilities, or waterbodies.

Total Estimated Number of Annual Respondents: 225.

Total Estimated Number of Annual Responses: 225.

Estimated Completion Time per Response: 2 hours.

Total Estimated Number of Annual Burden Hours: 450 hours.

Respondent's Obligation: Required to obtain or retain a benefit.

Frequency of Collection: Each time a use authorization is requested.

Total Estimated Annual Nonhour Burden Cost: 0.00

An agency may not conduct or sponsor and a person is not required to respond to a collection of information unless it displays a currently valid OMB control number.

The authority for this action is the Paperwork Reduction Act of 1995 (44 U.S.C. 3501 et seq).

Dated: August 6, 2018.
Ruth Welch,
Director, Policy and Administration.

[FR Doc. 2018-17503 Filed 8-13-18; 8:45 am]

BILLING CODE 4332-90-P